DEPARTMENT OF ENERGY

Federal Energy Regulatory Commission

[Docket No. RM96-1-024]

Standards for Business Practices of Interstate Natural Gas Pipelines; Notice Regarding Standard Numbers for Compliance With Order No. 587-R

April 11, 2003.

In Order No. 587-R,¹ the Federal Energy Regulatory Commission (Commission) amended its regulations to adopt the most recent version, Version 1.6, of the consensus standards promulgated by the North American Energy Standards Board Wholesale Gas Quadrant (WGQ) and the WGQ standards governing partial day recalls. In addition, the Commission required pipelines to file tariff sheets to reflect the changed standards by May 1, 2003, with an effective date of July 1, 2003. In response to several comments on the appropriate method for referencing the standards, the Commission found that the pipelines could incorporate these standards by reference by identifying the number of the standard (using “z” as a placeholder such as 3.3.z2) and identifying whether the standard was adopted in Recommendation R02002 or R02002-2, as appropriate.

¹ Standards for Business Practices of Interstate Natural Gas Pipelines, Order No. 587-R, 102 FERC ¶ 61,273 (March 12, 2003).

Subsequent to the issuance of Order No. 587-R, the WGQ assigned standard numbers to the partial day recall standards to replace the temporary reference numbers for the standards using the “z” placeholders. The WGQ assigned standard numbers are listed in a posting on the WGQ's Web site entitled “Assignment of Standard Numbers for Final Actions for R02002 and R02002-2, Ratified October 31, 2002” at http://www.naesb.org/Final.htm. Consequently, when incorporating partial day recall standards by reference, pipelines should use the WGQ assigned standard numbers as are listed in the Appendix to this Notice.

Magalie R. Salas,
Secretary.

Appendix.—Assigned Standard Numbers for Recent Ratifications R02002 and R02002-2
Recommendation | Recommendation temporary reference ID for standard | WGQ assigned standard number
R02002 | 5.3.z1 | 5.3.44
| 5.3.z2 | 5.3.45
| 5.3.z3 | 5.3.46
| 5.3.z4 | 5.3.47
| 5.3.z5 | 5.3.48
| 5.3.z6 | 5.3.49
| 5.3.z7 | 5.3.50
| 5.3.z8 | 5.3.51
| 5.3.z9 | 5.3.52
| 5.3.z10 | 5.3.53
| 5.3.z11 | 5.3.54
| 5.1.z1 | 5.1.2
R02002-2 | 5.1.z2 | 5.1.3
| 5.1.z3 | 5.1.4
| 5.2.z1 | 5.2.3
| 5.3.z12 | 5.3.55
| 5.3.z13 | 5.3.56
| 5.3.z14 | 5.3.57
| 5.3.z15 | 5.3.58

[FR Doc. 03-9525 Filed 4-16-03; 8:45 am]

BILLING CODE 6717-01-P